NUCLEAR REGULATORY COMMISSION

10 CFR Part 72

[NRC-2013-0236]

RIN 3150-AJ28

List of Approved Spent Fuel Storage Casks: Transnuclear, Inc. Standardized NUHOMS® Cask System

AGENCY: Nuclear Regulatory Commission.

ACTION: Direct final rule; confirmation of effective date.

SUMMARY: The U.S. Nuclear Regulatory Commission (NRC) is confirming the effective date of May 24, 2014, for the direct final rule that was published in the Federal Register on March 10, 2014. This direct final rule amended the NRC's spent fuel storage regulations by revising the Transnuclear, Inc. Standardized NUHOMS® Cask System listing within the “List of Approved Spent Fuel Storage Casks” to include Amendment No. 13 to Certificate of Compliance (CoC) No. 1004.

DATES: Effective Date: The effective date of May 24, 2014, is confirmed for this direct final rule.

ADDRESSES: Please refer to Docket ID NRC-2013-0236 when contacting the NRC about the availability of information for this direct final rule. You may access publicly-available information related to this direct final rule by any of the following methods:

• Federal Rulemaking Web site: Go to: http://www.regulations.gov and search for Docket ID NRC-2013-0236. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Gregory Trussell, Office of Federal and State Materials and Environmental Management Programs, U.S. Nuclear Regulatory Commission, Washington, DC 20555-0001, telephone: 301-415-6445, email: Gregory.Trussell@nrc.gov.

SUPPLEMENTARY INFORMATION: On March 10, 2014 (79 FR 13192), the NRC published a direct final rule amending its regulations at § 72.214 of Title 10 of the Code of Federal Regulations by revising the Transnuclear, Inc. Standardized NUHOMS® Cask System listing within the “List of Approved Spent Fuel Storage Casks” to include Amendment No. 13 to CoC No. 1004. In the direct final rule, the NRC stated that if no significant adverse comments were received, the direct final rule would become effective on May 24, 2014. The NRC did not receive any comments on the direct final rule. Therefore, this direct final rule will become effective as scheduled.

Dated at Rockville, Maryland, this 12th day of May, 2014.
For the Nuclear Regulatory Commission.
Cindy Bladey,
Chief, Rules, Announcements, and Directives Branch, Division of Administrative Services, Office of Administration.

[FR Doc. 2014-11400 Filed 5-15-14; 8:45 am]

BILLING CODE 7590-01-P